DEPARTMENT OF ENERGY

Federal Energy Regulatory Commission

[Project No. 190-106]

Moon Lake Electric Association, Inc.; Notice of Application for Surrender of License Accepted for Filing, Soliciting Comments, Motions To Intervene, and Protests

Take notice that the following hydroelectric application has been filed with the Commission and is available for public inspection:

a. Application Type: Surrender of license.

b. Project No: P-190-106.

c. Date Filed: December 31, 2024.

d. Applicant: Moon Lake Electric Association, Inc.

e. Name of Project: Uintah Hydroelectric Project.

f. Location: The project is located near the town of Neola, Duchesne County, Utah and diverts water from primarily the Uinta River as well as Big Springs Creek and Pole Creek. All project features, with the exception of a 0.4-acre portion of transmission line, are located entirely on Tribal lands of the Uintah and Ouray Native American Reservation and federal lands managed by the U.S. Forest Service, Ashley National Forest.

g. Filed Pursuant to: Federal Power Act, 16 U.S.C. 791a—825r.

h. Applicant Contact: Yankton Johnson, General Manager, Moon Lake Electric Association, 800 W Highway 40, Roosevelt, Utah, 84066, 435-722-5482, yjohnson@mleainc.com,

i. FERC Contact: Diana Shannon, (202) 502-6136, diana.shannon@ferc.gov.

j. Cooperating agencies: With this notice, the Commission is inviting federal, state, local, and Tribal agencies with jurisdiction and/or special expertise with respect to environmental issues affected by the proposal, that wish to cooperate in the preparation of any environmental document, if applicable, to follow the instructions for filing such requests described in item l below. Cooperating agencies should note the Commission's policy that agencies that cooperate in the preparation of any environmental document cannot also intervene. See 94 FERC ¶ 61,076 (2001).

k. Water Quality Certification: A water quality certificate under section 401 of the Clean Water Act is required for this proposal from the Environmental Protection Agency and the Utah Department of Environmental Quality, Division of Water Quality. The applicant must file no later than 60 days following the date of issuance of this notice either: (1) a copy of the request for water quality certification submitted to these agencies; or (2) a copy of the water quality certification or evidence of waiver of water quality certification.

l. Deadline for filing comments, motions to intervene, and protests: March 31, 2025.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. The first page of any filing should include the docket number P-190-106. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

m. Description of Request: Following the 2017 filing of a license application and continued consultation with parties regarding potential licensing recommendations, the applicant ultimately determined that the appropriate course of action is to surrender the project license. The project includes two concrete diversion structures, two canals, a forebay, a penstock, a powerhouse with two generating units, and interconnection facilities. Under the proposal, some of these project features will be removed while leaving others in place. Those retained features will then be transferred to the Ute Indian Tribe. Project features to be removed include the scour protection weir which traverses the Uinta River; the elevated pipeline that supplies water to the main canal; the Pole Creek diversion structure; the substation; and two operator houses. Features to be retained include: the main canal heading structure and main canal, the Big Springs diversion structure (and access road); the project forebay, the powerhouse; and garage. The transmission line that provides electricity to legacy cabins and the nearby Ute Fish Hatchery will be retained. Some of the project fencing will also be retained.

The applicant included an applicant-prepared environmental assessment with its surrender application. Documentation of consultation with the Ute Indian Tribe and federal and state resource agencies was included with the application.

n. Locations of the Application: This filing may be viewed on the Commission's website at https://www.ferc.gov using the “eLibrary” link. Enter the docket number excluding the last three digits in the docket number field to access the document. You may also register online at https://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

o. Individuals desiring to be included on the Commission's mailing list should so indicate by writing to the Secretary of the Commission.

p. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

q. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

r. The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202)502-6595 or OPP@ferc.gov.

Dated: February 27, 2025.
Debbie-Anne A. Reese,
Secretary.

[FR Doc. 2025-03554 Filed 3-4-25; 8:45 am]

BILLING CODE 6717-01-P